SMALL BUSINESS ADMINISTRATION

[Disaster Declaration #12168 and #12169]

Kentucky Disaster Number KY-00032

AGENCY: U.S. Small Business Administration.

ACTION: Amendment 3.

SUMMARY: This is an amendment of the Presidential declaration of a major disaster for the Commonwealth of Kentucky (FEMA—1912—DR), dated 05/11/2010.

Incident: Severe Storms, Flooding, Mudslides, and Tornadoes.

Incident Period: 05/01/2010 and continuing.

Effective Date: 05/28/2010.

Physical Loan Application Deadline Date: 07/12/2010.

EIDL LOAN Application Deadline Date: 02/11/2011.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the Commonwealth of Kentucky, dated 05/11/2010 is hereby amended to include the following areas as adversely affected by the disaster:

Primary Counties: (Physical Damage and Economic Injury Loans):

Bourbon, Butler, Christian, Clark, Clinton, Crittenden, Cumberland, Edmonson, Estill, Hardin, Hopkins, Larue, Lee, Livingston, Ohio, Russell, Taylor, Wayne, Wolfe.

Contiguous Counties: (Economic Injury Loans Only):

Kentucky: Breckinridge, Caldwell, Daviess, Hancock, Jefferson, Lyon, Marshall, Mccracken, Mclean, Meade, Trigg, Union, Webster.

Illinois: Hardin, Massac, Pope.

Indiana: Harrison.

Tennessee: Montgomery, Pickett, Scott, Stewart.

All other information in the original declaration remains unchanged.

(Catalog of Federal Domestic Assistance Numbers 59002 and 59008)

James E. Rivera,
Associate Administrator for Disaster Assistance.

[FR Doc. 2010-13757 Filed 6-8-10; 8:45 am]

BILLING CODE 8025-01-P